SECURITIES AND EXCHANGE COMMISSION

Agency Meeting

Federal Register Citation of Previous Announcement: 74 FR 47300, September 15, 2009.

Status: Open Meeting.

Place: 100 F. Street, NE., Washington, DC.

Date and Time of Previously Announced Meeting: September 17, 2009.

Change in the Meeting: Room Change.

The Open Meeting scheduled for Thursday, September 17, 2009 at 2:30 p.m. will be held in the Auditorium, Room L-002.

At times, changes in Commission priorities require alterations in the scheduling of meeting items. For further information and to ascertain what, if any, matters have been added, deleted or postponed, please contact: The Office of the Secretary at (202) 551-5400.

Dated: September 17, 2009.
Elizabeth M. Murphy,
Secretary.

[FR Doc. E9-22830 Filed 9-22-09; 8:45 am]

BILLING CODE 8010-01-P